DEPARTMENT OF DEFENSE

Office of the Secretary

Local Redevelopment Authority (LRA)

ACTION: Notice.

SUMMARY: Pursuant to Section 2905(b)(7)(B)(ii) of the defense Base Closure and Realignment Act of 1990, Public Law 101-510, as amended, this notice provides the point of contact, address, and telephone number for the Local Redevelopment Authority (LRA) that the Department of Defense has recognized for planning the redevelopment of the Davis Global Communications Site, a part of the closure of McClellan Air Force Base. Representatives of state and local governments and homeless providers interested in the reuse of this installation should contact the person or organization listed. The following information will be published in a newspaper of general circulation in the area of the installation.

EFFECTIVE DATE: June 19, 2001.

FOR FURTHER INFORMATION CONTACT: Patrick J. O'Brien, Office of Deputy Under Secretary of Defense (Installations and Environment), Office of Economic Adjustment, 400 Army Navy Drive, Suite 200, Arlington, VA 22202 (703) 604-6020.

Installation Name: Davis Global Communications Site.

LRA Name: Yolo County Board of Supervisors.

Point of Contact: Honorable Tom Stallard, Chair.

Address: 625 Court Street, Room 204, Woodland, CA 95695.

Phone: (530) 666-8193

Dated: August 8, 2001.
L.M. Bynum,
Alternate OSD Federal Register Liaison Officer, Department of Defense.

[FR Doc. 01-20369 Filed 8-13-01; 8:45 am]

BILLING CODE 5001-08-M